DEPARTMENT OF LABOR

Employment and Training Administration

[TA-W-56,398]

Libbey Glass, Inc. Walnut, CA; Negative Determination Regarding Application for Reconsideration

By application of April 4, 2005, a petitioner requested administrative reconsideration of the Department's negative determination regarding eligibility to apply for Trade Adjustment Assistance (TAA), applicable to workers and former workers of the subject firm. The denial notice was signed on March 14, 2005, and was published in the Federal Register on May 2, 2005 (70 FR 22710).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a misinterpretation of facts or of the law justified reconsideration of the decision.

The petition for the workers of Libbey Glass, Inc., Walnut, California engaged in production of glassware was denied because the “contributed importantly” group eligibility requirement of Section 222 of the Trade Act of 1974, as amended, was not met, nor was there a shift in production from that firm to a foreign country.

The “contributed importantly” test is generally demonstrated through a survey of the workers' firm's customers. The survey revealed no increase in imports of glassware during the relevant period (2003 to 2004). The subject firm did not import glassware in the relevant period.

The petitioner alleges that Libbey Glass, Inc., Walnut, California is shifting production to a new factory in China and is buying a factory in Europe. The petitioner attached articles in support of the allegations.

A review of the investigation file revealed that Libbey Glass, Inc. provided the Department with the information that the subject firm has purchased a plant abroad. It was also revealed that no glassware products were imported from that plant into the United States. All products manufactured in that plant are sold on the European market and are not intended for the U.S. customer base.

The initial investigation also confirmed that Libbey Glass, Inc. did announce that they were going to build a production facility in China. However, this facility will not be constructed until 2007. Consequently, there are no present imports of glassware which contributed to worker' separations.

Conclusion

After review of the application and investigative findings, I conclude that there has been no error or misinterpretation of the law or of the facts which would justify reconsideration of the Department of Labor's prior decision. Accordingly, the application is denied.

Signed at Washington, DC, this 5th day of May, 2005.
Linda G. Poole,
Certifying Officer, Division of Trade Adjustment Assistance.

[FR Doc. E5-2427 Filed 5-13-05; 8:45 am]

BILLING CODE 4510-30-P